EXPORT-IMPORT BANK OF THE UNITED STATES

Sunshine Act Meeting

ACTION: Notice of a partially open meeting of the Board of Directors of the Export-Import Bank of the United States.

TIME AND PLACE: Friday, November 22, 2019 at 9:00 a.m. The meeting will be held at Ex-Im Bank in Room 1126, 811 Vermont Avenue NW, Washington, DC 20571.

OPEN AGENDA ITEM: Item No. 1 Small Business Update.

PUBLIC PARTICIPATION: The meeting will be open to public observation for Item No. 1 only.

FURTHER INFORMATION: Members of the public who wish to attend the meeting should call Joyce Stone, Office of the General Counsel, 811 Vermont Avenue NW, Washington, DC 20571 (202) 565-3336 by close of business Tuesday, November 19, 2019.

Joyce Brotemarkle Stone,
Assistant Corporate Secretary.

[FR Doc. 2019-24247 Filed 11-1-19; 4:15 pm]

BILLING CODE 6690-01-P